DEPARTMENT OF ENERGY

Federal Energy Regulatory Commission

[Docket No. EC06-67-000]

Quachita Power, LLC; Notice of Filing

January 26, 2006.

Take notice that on January 18, 2006, Quachita Power, LLC (Applicant) submitted an application pursuant to section 203 of the Federal Power Act for authorization for the disposition of jurisdictional facilities related to the transfer of a 50% direct non-managing membership interest to Cogentrix Ouachita Holdings, Inc. (Holdings). As a result of the proposed transfer, Applicant states it will be a wholly-owned direct subsidiary of Holdings, which is a wholly-owned indirect subsidiary of The Goldman Sachs Group, Inc. Applicant further states it is an exempt wholesale generator that owns and operates an 816 MW electric generating facility located in Ouachita Parish near the City of Sterlington, Louisiana. Applicant has requested confidential treatment for Exhibit I, because it contains sensitive commercial and financial information that is not publicly available.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 8, 2006.

Magalie R. Salas,
Secretary.

[FR Doc. E6-1449 Filed 2-2-06; 8:45 am]

BILLING CODE 6717-01-P